DEPARTMENT OF LABOR

Employment and Training Administration

[TA-W-80,502; TA-W-80,502A]

Amended Certification Regarding Eligibility To Apply for Worker Adjustment Assistance; Lexis Nexis, a Subsidiary of Reed Elsevier, Quality & Metrics Department, Including Employees Located Throughout the United States Who Report to Miamisburg, OH; Lexis Nexis, a Subsidiary of Reed Elsevier, Quality & Metrics Department, Including Employees Located Throughout the United States Who Report to Colorado Springs, CO

In accordance with Section 223 of the Trade Act of 1974, as amended (“Act”), 19 U.S.C. 2273, the Department of Labor issued a Certification of Eligibility to Apply for Worker Adjustment Assistance on February 3, 2012, applicable to workers of Lexis Nexis, Quality & Metrics Department, including workers located throughout the United States who report to, Miamisburg, Ohio (TA-W-80,502). On March 14, 2012, the Department issued an amended certification to cover workers of Lexis Nexis, Quality & Metrics Department, including workers located throughout the United States who report to, Colorado Springs, Colorado (TA-W-80,502A).

At the request of a state workforce official, the Department reviewed the certification for workers of the subject firm.

The worker groups include workers who report wages under the parent company, Reed Elsevier.

The amended notice applicable to TA-W-80,205 and TA-W-80205A is hereby issued as follows:

All workers of Lexis Nexis, a subsidiary of Reed Elsevier, Quality & Metrics Department, including workers located throughout the United States who report to, Miamisburg, Ohio (TA-W-80,502) and workers of Lexis Nexis, a subsidiary of Reed Elsevier, Quality & Metrics Department, including workers located throughout the United States who report to, Colorado Springs, Colorado (TA-W-80,502A), who became totally or partially separated from employment on or after October 6, 2010 through February 3, 2014, and all workers in the group threatened with total or partial separation from employment on February 3, 2012 through February 3, 2012, are eligible to apply for adjustment assistance under Chapter 2 of Title II of the Trade Act of 1974, as amended.

Signed in Washington, DC, this 8th day of May, 2012.
Del Min Amy Chen,
Certifying Officer, Office of Trade Adjustment Assistance.

[FR Doc. 2012-11817 Filed 5-15-12; 8:45 am]

BILLING CODE 4510-FN-P